DEPARTMENT OF JUSTICE

Antitrust Division

Notice Pursuant to the National Cooperative Research and Production Act of 1993—Z-Wave Alliance, Inc.

Notice is hereby given that, on April 21, 2021, pursuant to Section 6(a) of the National Cooperative Research and Production Act of 1993, 15 U.S.C. 4301 et seq. (the “Act”), Z-Wave Alliance, Inc. filed written notifications simultaneously with the Attorney General and the Federal Trade Commission disclosing changes in its membership. The notifications were filed for the purpose of extending the Act's provisions limiting the recovery of antitrust plaintiffs to actual damages under specified circumstances.

Specifically, Anhui Geniatech Inc., Ltd., Hefei, PEOPLE'S REPUBLIC OF CHINA; Hank Smart Tech Co. Ltd., Shenzhen, PEOPLE'S REPUBLIC OF CHINA; FireAvert, LLC, Springville, UT; MY CLIMA GREEN ENERGIE SRLS, Milano, ITALY; Sengled, Shanghai City, PEOPLE'S REPUBLIC OF CHINA; Black Watch Systems, LLC, Snyder, TX; Pamex Inc., Chino, CA; Telus Communications Inc., Edmonton, CANADA; Kaonbrand Broadband Co., Ltd., Gyeonggi-do, SOUTH KOREA; Somfy Systems, Inc., Dayton, NJ; Comfortability B.V., Ijssel, THE NETHERLANDS; i feel, Tikva, ISRAEL; Thermo-Floor AS, Hunndalen, NORWAY; Masonite Corporation, Tampa, FL; and U-tec Group Inc., Freemont, CA have joined as parties to this venture.

Also, Gullitech, Savigny-sur-Orge, FRANCE; Perenio IOT spol s.r.o., Ricany-Jazlovice, CZECH REPUBLIC; MERCURY Corporation, Incheon, SOUTH KOREA; FireAngel Safety Technology, Coventry, UNITED KINGDOM; Shenzhen Sunricher Technology Limited, Shenzhen, PEOPLE'S REPUBLIC OF CHINA; Fermax Asia Pacific Pte Ltd, Singapore, SINGAPORE; Switchee Limited, London, UNITED KINGDOM; Guangdong Daming Laffey Electric Co., Ltd., Guangdong, PEOPLE'S REPUBLIC OF CHINA; Connected Object, Paris, FRANCE; AVX Integrated Technologies, West Nyack, NY; Radio Thermostat Company of America, Modesto, CA; KEYless Entry Systems, New South Wales, AUSTRALIA; and SmartEzy Pte Ltd., Singapore, SINGAPORE have withdrawn from this venture.

No other changes have been made in the membership or the planned activity of this venture. Membership in this venture remains open, and Z-Wave Alliance, Inc. intends to file additional written notifications disclosing all changes in membership.

On November 19, 2020, Z-Wave Alliance, Inc. filed its original notification pursuant to Section 6(a) of the Act. The Department of Justice published a notice in the Federal Register pursuant to Section 6(b) of the Act on December 1, 2020 (85 FR 77241).

The last notification was filed with the Department on February 3, 2021. A notice was published in the Federal Register pursuant to Section 6(b) of the Act on March 10, 2021 (86 FR 13733).

Suzanne Morris,
Chief, Premerger and Division Statistics, Antitrust Division.

[FR Doc. 2021-09904 Filed 5-10-21; 8:45 am]

BILLING CODE 4410-11-P